DEPARTMENT OF COMMERCE

International Trade Administration

[A-570-904]

Certain Activated Carbon From the People's Republic of China; 2011-2012; Partial Rescission of the Fifth Antidumping Duty Administrative Review

AGENCY: Import Administration, International Trade Administration, Department of Commerce.

SUMMARY: On May 29, 2012, the Department of Commerce (“the Department”) published a notice of initiation of an administrative review of the antidumping duty order on certain activated carbon from the People's Republic of China (“PRC”) based on multiple timely requests for an administrative review. The review covers 187 companies. Based on a withdrawal of the requests for review of certain companies from Calgon Carbon Corporation and Norit Americas Inc. (“Petitioners”), we are now rescinding this administrative review with respect to two companies.

DATES: Effective Date: December 6, 2012.

FOR FURTHER INFORMATION CONTACT: Bob Palmer, AD/CVD Operations, Office 9, Import Administration, International Trade Administration, U.S. Department of Commerce, 14th Street and Constitution Avenue NW., Washington, DC 20230; telephone (202) 482-9068.

Background

In April 2012, the Department received multiple timely requests to conduct an administrative review of the antidumping duty order on certain activated carbon from the PRC (“the Order”). Based upon these requests, on May 29, 2012, the Department published a notice of initiation of an administrative review of the Order covering the period April 1, 2011, to March 31, 2012.¹ The Department initiated the administrative review with respect to 187 companies.² On August 27, 2012, Petitioners withdrew their request for an administrative review on Shanxi Xuanzhong Chemical Industry Co., Ltd. (“Xuanzhong”) and Xi'an Shuntong International Trade & Industrials Co., Ltd. (“Xi'an”).³ Petitioners were the only party to request a review of these companies.

¹ See Initiation of Antidumping and Countervailing Duty Administrative Reviews and Requests for Revocation in Part, 77 FR 31568, 31570 (May 29, 2012) (“Initiation Notice”).

² See id.

³ Petitioners also withdrew their request for review of Calgon Carbon (Tianjin) Co., Ltd. (“Calgon”). However, Albemarle Corporation also has submitted a request for an administrative review of Calgon in the current proceeding. See Letter from Albemarle Corporation, dated April 30, 2012. Additionally, we note that there are additional companies for which all review requests were withdrawn within the 90 day period. See Letter to the Department from Petitioners, Re: Certain Activated Carbon from the People's Republic of China: Petitioners' Withdrawal of Certain Requests for Administrative Review, dated August 27, 2012. These additional companies for which all review requests were withdrawn do not have a separate rate from a prior segment of this proceeding. We intend to address the disposition of these companies in the preliminary results of this review.

Partial Rescission

Pursuant to 19 CFR 351.213(d)(1), the Secretary will rescind an administrative review, in whole or in part, if a party who requested the review withdraws the request within 90 days of the date of publication of notice of initiation of the requested review. Petitioners' requests for review of Xuanzhong and Xi'an were withdrawn within the 90-day period. Because Petitioners' requests for review were timely withdrawn and because no other party requested a review of Xuanzhong and Xi'an, in accordance with 19 CFR 351.213(d)(1), we are partially rescinding this review with respect to Xuanzhong and Xi'an.

Assessment Rates

The Department will instruct U.S. Customs and Border Protection (“CBP”) to assess antidumping duties on all appropriate entries.⁴ Because Xuanzhong and Xi'an have a separate rate from a prior segment of this proceeding, antidumping duties shall be assessed at rates equal to the cash deposit of estimated antidumping duties required at the time of entry, or withdrawal from warehouse, for consumption, in accordance with 19 CFR 351.212(c)(2). The Department intends to issue appropriate assessment instructions directly to CBP 15 days after publication of this notice.

⁴ See 19 CFR 351.212(b)(1).

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

This notice is issued and published in accordance with section 777(i)(1) of the Tariff Act of 1930, as amended, and 19 CFR 351.213(d)(4).

Dated: November 30, 2012.
Christian Marsh,
Deputy Assistant Secretary for Antidumping and Countervailing Duty Operations.

[FR Doc. 2012-29531 Filed 12-5-12; 8:45 am]

BILLING CODE 3510-DS-P